DEPARTMENT OF HEALTH AND HUMAN SERVICES

Substance Abuse and Mental Health Services Administration

Center for Substance Abuse Prevention; Notice of Meeting

Pursuant to Public Law 92-463, notice is hereby given of the meeting of the SAMHSA Center for Substance Abuse Prevention (CSAP) National Advisory Council on August 16-17, 2005.

A portion of the meeting will be open to the public. The meeting will include a rollcall, general announcements, and discussion of the Center's policy issues and current administrative, legislative and program developments.

The meeting will also include the review, discussion, and evaluation of grant applications. Therefore, a portion of the meeting will be closed to the public as determined by the SAMHSA Administrator in accordance with Title 5 U.S.C. 522(c)(6) and 5 U.S.C. App. 2, Section 10(d).

A roster of the Council members, the transcript of the open session, and the minutes of the meeting may be obtained either by accessing the SAMHSA/CSAP Council Web site, www.samhsa.gov/council/csap/csapnac.aspx as soon as possible after the meeting or by communicating with the contact listed below. Additional information for this meeting may be obtained by contacting the individual listed below.

Committee Name: Substance Abuse and Mental Health Services Administration Center for Substance Abuse Prevention National Advisory Council.

Date: Wednesday, August 16, 2005. Thursday, August 17, 2005.

Place: 1 Choke Cherry Road, Sugarloaf Conference Room, Rockville, Maryland 20857.

Type: Closed: August 16, 2005, 12 p.m.-3:30 p.m. Open: August 17, 2005, 9 a.m.-3 p.m.

Contact: Roe Wilson, 1 Choke Cherry Road, Room 4-1057, Rockville, Maryland 20857, Telephone: (240) 276-2420, Fax: (240) 276-2430, E-mail: roe.wilson@samhsa.hhs.gov.

Dated: July 22, 2005.
Toian Vaughn,
Committee Management Officer, Substance Abuse and Mental Health Services Administration.

[FR Doc. 05-15005 Filed 7-28-05; 8:45 am]

BILLING CODE 4162-20-P